FEDERAL COMMUNICATIONS COMMISSION

47 CFR Part 73

[DA 00-1756; MM Docket No. 98-88; RM-9285, RM-9654]

Radio Broadcasting Services; Wright and Clearmont, WY

AGENCY: Federal Communications Commission.

ACTION: Final rule.

SUMMARY: The Commission, at the request of Mountain Tower Broadcasting, allots Channels 268C at Wright, Wyoming, as the community's first local aural transmission service (RM-9285). See 63 FR 34620, June 25, 1998. At the request of Mount Rushmore Broadcasting, Inc., we also allot Channel 287A at Wright, Wyoming, as the community's second local aural transmission service; and Channel 287A at Clearmont, Wyoming as the community's first local aural transmission service (RM-9654).

Channel 268C can be allotted at Wright in compliance with the Commission's minimum distance separation requirements at city reference coordinates; and Channel 287A can also be allotted to Wright at city reference coordinates. Additionally, Channel 287A can be allotted to Clearmont in compliance with the Commission's minimum distance separation requirements at city reference coordinates.

The coordinates for Channel 268C at Wright are 43-45-02 North Latitude and 105-29-53 West Longitude. Additionally, the coordinates for Channel 287A at Wright are 43-44-49 North Latitude and 105-28-12 West Longitude; and the coordinates for Channel 287A at Clearmont are 44-38-18 North Latitude and 106-22-48 West Longitude.

DATES: Effective September 18, 2000. A filing window for Channels 268C and 287A at Wright, and Channel 287A at Clearmont, will not be opened at this time. Instead, the issue of opening filing windows for these channels will be addressed by the Commission in a subsequent order.

FOR FURTHER INFORMATION CONTACT: Sharon P. McDonald, Mass Media Bureau, (202) 418-2180.

SUPPLEMENTARY INFORMATION: This is a synopsis of the Commission's Report and Order, MM Docket No. 98-88, adopted July 26, 2000, and released August 4, 2000. The full text of this Commission decision is available for inspection and copying during normal business hours in the FCC Reference Information Center (Room CY-A257), 445 12th Street, SW, Washington, DC. The complete text of this decision may also be purchased from the Commission's copy contractors, International Transcription Service, Inc., (202) 857-3800, 1231 20th Street, NW., Washington, DC 20036.

List of Subjects in 47 CFR Part 73

Radio broadcasting.

Part 73 of title 47 of the Code of Federal Regulations is amended as follows:

PART 73—[AMENDED]

1. The authority citation for part 73 continues to read as follows:

Authority: 47 U.S.C. 54, 303, 334, 336.

§ 73.202 [Amended]

2. Section 73.202(b), the Table of FM Allotments under Wyoming is amended by adding Wright, Channels 268C and 287A; and Clearmont, Channel 287A.

Federal Communications Commission.
John A. Karousos,
Chief, Allocations Branch, Policy and Rules Division, Mass Media Bureau.

[FR Doc. 00-21404 Filed 8-22-00; 8:45 am]

BILLING CODE 6712-01-P